DEPARTMENT OF THE TREASURY

Submission for OMB Review; Comment Request

September 25, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before November 6, 2002 to be assured of consideration.

Bureau of Alcohol, Tobacco and Firearms (BATF)

OMB Number: 1512-0057.

Form Number: ATF F 487-B (5170.7).

Type of Review: Extension.

Title: Application and Permit to Ship Liquors and Articles of Puerto Rican Manufacture Taxpaid.

Description: ATF F 487-B is used to document the shipment of taxpaid Puerto Rican articles into the United States. The form is verified by Puerto Rican and U.S. Treasury Officials to certify that products are either taxpaid or deferred under appropriate bond. Serves as a method of protection of the revenue.

Respondents: Business or other for-profit.

Estimated Number of Respondents: 20.

Estimated Burden Hours Per Respondent: 30 minutes.

Frequency of Response: On occasion.

Estimated Total Reporting Burden: 100 hours.

OMB Number: 1512-0190.

Form Number: ATF F 5100.11.

Type of Review: Extension.

Title: Withdrawal of Spirits, Specially Denatured Spirits, or Wines for Exportation.

Description: ATF F 5100.11 is completed by exporters to report the withdrawal of spirits, denatured spirits, and wines from internal revenue bonded premises, without payment of tax for direct exportation, transfer to a foreign trade zone, customs manufacturer's bonded warehouse or customs bonded warehouse or for use as supplies on vessels or aircraft.

Respondents: Business or other for-profit.

Estimated Number of Recordkeepers: 300.

Estimated Burden Hours Per Recordkeeper: 1 hour.

Frequency of Response: On occasion.

Estimated Total Recordkeeping Burden: 6,000 hours.

OMB Number: 1512-0195.

Form Number: ATF F 5110.25.

Type of Review: Extension.

Title: Application for Operating Permit Under 26 U.S.C. 5171(d).

Description: ATF F 5110.25 is completed by proprietors of distilled spirits plants who engage in certain specified types of activities. ATF district office personnel use the information on the form to identify the applicant, the location of the business and the types of activities to be conducted.

Respondents: Business or other for-profit.

Estimated Number of Respondents: 80.

Estimated Burden Hours Per Respondent: 15 minutes.

Frequency of Response: On occasion.

Estimated Total Reporting Burden: 20 hours.

OMB Number: 1512-0503.

Recordkeeping Requirement ID Number: ATF REC 5120/3.

Type of Review: Extension.

Title: Marks on Wine Containers.

Description: ATF requires that wine on wine premises be identified by statements of information on labels or contained in marks. ATF uses this information to validate the receipts of excise tax revenue by the Federal government. Consumers are provided with adequate identifying information.

Respondents: Business or other for-profit.

Estimated Number of Recordkeepers: 1,560.

Estimated Burden Hours Per Recordkeeper: 1 hour.

Frequency of Response: On occasion.

Estimated Total Reporting Burden: 1 hour.

Clearance Officer: Jacqueline White, (202) 927-8930, Bureau of Alcohol, Tobacco and Firearms, Room 3200, 650 Massachusetts Avenue, NW., Washington, DC 20226.

OMB Reviewer: Joseph F. Lackey, Jr., (202) 395-7316, Office of Management and Budget, Room 10235, New Executive Office Building, Washington, DC 20503.

Mary A. Able,
Departmental Reports Management Officer.

[FR Doc. 02-25358 Filed 10-4-02; 8:45 am]

BILLING CODE 4810-31-P